DEPARTMENT OF COMMERCE

National Oceanic and Atmospheric Administration

50 CFR Part 224

[Docket No. 220912-0190]

RIN 0648-BI88

Amendments to the North Atlantic Right Whale Vessel Strike Reduction Rule; Extension of Public Comment Period

AGENCY: National Marine Fisheries Service (NMFS), National Oceanic and Atmospheric Administration (NOAA), Commerce.

ACTION: Proposed rule; extension of public comment period.

SUMMARY: On August 1, 2022, NMFS published proposed amendments to the North Atlantic right whale vessel strike reduction rule, with a 60-day comment period ending on September 30, 2022. In response to multiple requests for an extension, NMFS is announcing an extension of the public comment period by an additional 30 calendar days ending on October 31, 2022.

DATES: The deadline for receipt of comments on the proposed rule published on August 1, 2022, at 87 FR 46921, is extended from September 30, 2022, until October 31, 2022.

ADDRESSES: You may submit comments on this document, identified by NOAA-NMFS-2022-0022, by electronic submission. Submit all electronic public comments via the Federal eRulemaking Portal. Go to https://www.regulations.gov and enter NOAA-NMFS-2022-0022 in the Search box. Click the “Comment” icon, complete the required fields and enter or attach your comments. You may submit comments on supporting materials via the same electronic submission process, identified by NOAA-NMFS-2022-0022.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous). The Draft Environmental Assessment, and the Draft Regulatory Impact Review/Initial Regulatory Flexibility Analysis prepared in support of this proposed rule, are available via the internet at https://www.regulations.gov/ or obtained via email from the person listed below.

FOR FURTHER INFORMATION CONTACT: Caroline Good, caroline.good@noaa.gov, 301-427-8402.

SUPPLEMENTARY INFORMATION:

Background

On August 1, 2022, NMFS published proposed changes to the North Atlantic right whale (Eubalaena glacialis) vessel speed regulations to further reduce the likelihood of mortalities and serious injuries to endangered right whales from vessel collisions, which are a leading cause of the species' decline and a primary factor in an ongoing Unusual Mortality Event. The proposed rule would: (1) modify the spatial and temporal boundaries of current speed restriction areas referred to as Seasonal Management Areas (SMAs), (2) include most vessels greater than or equal to 35 ft (10.7 m) and less than 65 ft (19.8 m) in length in the size class subject to speed restriction, (3) create a Dynamic Speed Zone framework to implement mandatory speed restrictions when whales are known to be present outside active SMAs, and (4) update the speed rule's safety deviation provision.

NMFS has received multiple requests for extension of the 60-day comment period and multiple requests to maintain the comment period scheduled to close on September 30, 2022. Having considered the requests, NMFS is extending the comment period for the proposed rule for an additional 30 days to provide further opportunity for public comment. This extension provides a total of 90 days for public input.

Changes to the speed regulations are proposed to reduce vessel strike risk based on a coast-wide collision mortality risk assessment and updated information on right whale distribution, vessel traffic patterns, and vessel strike mortality and serious injury events. Changes to the existing vessel speed regulation are essential to stabilize the ongoing right whale population decline and prevent the species' extinction. As such, we encourage members of the public to submit comments as soon as possible to allow NMFS sufficient time to review, consider and incorporate submitted information.

Authority: 16 U.S.C. 1531-1543; 16 U.S.C. 1361 et seq.

Dated: September 12, 2022.
Samuel D Rauch, III,
Deputy Assistant Administrator for Regulatory Programs, National Marine Fisheries Service.

[FR Doc. 2022-20058 Filed 9-15-22; 8:45 am]

BILLING CODE 3510-22-P